ENVIRONMENTAL PROTECTION AGENCY

[FRL-8971-6]

Clean Water Act Section 303(d): Final Agency Action on 8 Total Maximum Daily Loads (TMDLs) in Arkansas

AGENCY: Environmental Protection Agency (EPA).

ACTION: Notice of availability.

SUMMARY: This notice announces the final agency action on 8 TMDLs established by EPA Region 6 for waters listed in the State of Arkansas, under section 303(d) of the Clean Water Act (CWA). Documents from the administrative record files for the final 8 TMDLs, including TMDL calculations may be viewed at http://www.epa.gov/region6/water/npdes/tmdl/index.htm.

ADDRESSES: The administrative record files for these 8 TMDLs may be obtained by writing or calling Ms. Diane Smith, Environmental Protection Specialist, Water Quality Protection Division, U.S. Environmental Protection Agency Region 6, 1445 Ross Ave., Dallas, TX 75202-2733. Please contact Ms. Smith to schedule an inspection.

FOR FURTHER INFORMATION CONTACT: Diane Smith at (214) 665-2145.

EPA Takes Final Agency Action on 8 TMDLs

By this notice EPA is taking final agency action on the following TMDLs for 8 waters located within the State of Arkansas:

Segment-reach | Waterbody name | Pollutant
08020301-010 | Cypress Bayou | Fecal coliform and E. coli.
08020301-011 | Cypress Bayou | Fecal coliform and E. coli.
08020301-012 | Cypress Bayou | Fecal coliform and E. coli.
11110103-029 | Clear Creek | Fecal coliform and E. coli.

EPA requested the public to provide EPA with any significant data or information that might impact the 8 TMDLs at Federal Register Notice: Volume 74, Number 154, pages 40583 (August 12, 2009). The comments were received, and the EPA's response to comments and the TMDLs may be found at: http://www.epa.gov/region6/water/npdes/tmdl/index.htm.

Dated: September 30, 2009.
Bill Luthans,
Acting Director, Water Quality Protection Division, EPA Region 6.

[FR Doc. E9-26091 Filed 10-28-09; 8:45 am]

BILLING CODE 6560-50-P